DEPARTMENT OF COMMERCE

National Institute of Standards and Technology

[Docket No. 060119011-6011-01]

Notice of Intent To Establish the NIST Nucleic Acid Sequence Library

AGENCY: National Institute of Standards and Technology, Commerce.

ACTION: Notice.

SUMMARY: The National Institute of Standards and Technology (NIST) is collecting nucleic acid sequences, which have been dedicated to the public domain, in order to form a library of sequences suitable for the preparation of RNA reference materials. These reference materials are intended to act as external RNA controls in gene expression assays. It is expected that there will be commercial products based upon this sequence library.

Development of these reference materials is being done in conjunction with the External RNA Control Consortium (ERCC), an ad hoc international consortium of approximately 70 organizations from the public, private, and academic sectors.

DATES: The initial sequence library will be compiled on March 17, 2006. Contributions received later than this date will be considered for inclusion in the library, but may not be included in the first round of testing.

FOR FURTHER INFORMATION CONTACT: Marc Salit, Advanced Chemical Science Laboratory, Stop 8310, National Institute of Standards and Technology (NIST), Gaithersburg, MD 20899-8310. Telephone: (301) 975-3646; FAX: 301 975-5449; or by e-mail: salit@nist.gov.

SUPPLEMENTARY INFORMATION: NIST is collecting nucleic acid sequences to form a library of sequences suitable for the preparation of RNA reference materials. These reference materials are intended to act as external RNA controls in gene expression assays.

Development of these reference materials is being done in conjunction with the External RNA Control Consortium, an ad hoc international consortium of approximately 70 organizations from the public, private, and academic sectors. This group has described the materials to be developed (see http://www.cstl.nist.gov/biotech/Cell&TissueMeasurements/GeneExpression/ERCC.htm) has published a plan to qualify the performance of the candidate sequence library (see Consortium, E.R.C., Proposed methods for testing and selecting the ERCC external RNA controls. BMC Genomics, 2005. 6(1): p. 150) and is developing guidance for using external RNA controls to validate a gene expression assay (see http://www.clsi.org description of provisional guidance MM-16).

The External RNA Reference Material sequences are intended to mimic endogenous mRNA transcripts, in particular for mammalian species. These sequences should:

1. Be from 500 to 2000 nucleotides in length;

2. Have not more than marginal expected cross reactivity with assay probes for popular research organisms (including H. sapiens, M. muscularis, S. cereviciae, A. thaliana, E. coli, C. elegans, D. melanogoster, D. rerio). Marginal cross reactivity will be defined as having no more than 20 contiguous bases of identity and overall homology less than 70% with any section of the genomes of interest; and,

3. Have GC content of 40-60% and be void of significant repetitive elements, palindromes or regions of low complexity (Human, mouse and rat genomes are an average of 40-42% GC).

To be included in the library, RNA sequences must:

1. Be entered in the National Center for Biotechnology Information's GenBank database (http://www.ncbi.nlm.nih.gov/Genbank/index.html).

2. Be dedicated to the Public Domain for broad dissemination and unrestricted use by any interested party.

Sequences provided to NIST for inclusion in the library must be physically embodied in a suitable vector, in a suitable organism, and should be provided as such to NIST.

Dated: February 11, 2006.
William Jeffrey,
Director.

[FR Doc. E6-2775 Filed 2-27-06; 8:45 am]

BILLING CODE 3510-13-P